DEPARTMENT OF ENERGY

Federal Energy Regulatory Commission

[Docket No. OR16-10-000]

Breitburn Operating LP; Notice of Request for Temporary Waiver

Take notice that on December 22, 2015, pursuant to Rule 202 of the Federal Energy Regulatory Commission's (Commission) Rules of Practice and Procedure, 18 CFR 385.202 (2014), Breitburn Operating LP (Breitburn), filed a petition for temporary waiver of Interstate Commerce Act sections 6 and 20, and the Commission's related oil pipeline tariff and reporting requirements at 18 CFR parts 341 and 357, with respect to certain oil pipeline gathering facilities in Oklahoma which transport production from producing areas known as the Postle Field Units. Breitburn states it has 100 percent ownership and title to all throughput on the facilities which connect to Jayhawk pipeline for ultimate transportation to downstream markets.

Any person desiring to intervene or to protest this filing must file in accordance with Rules 211 and 214 of the Commission's Rules of Practice and Procedure (18 CFR 385.211 and 385.214 (2014)) on or before 5:00 p.m. Eastern time on the specified comment date. Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on Tapstone.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on January 6, 2016.

Dated: December 23, 2015.
Nathaniel J. Davis, Sr.,
Deputy Secretary.

[FR Doc. 2015-32831 Filed 12-29-15; 8:45 am]

BILLING CODE 6717-01-P